DEPARTMENT OF DEFENSE

Department of the Army

Army Science Board; Notice of Open Meeting

In accordance with section 10(a)(2) of the Federal Advisory Committee Act (Pub. Law 92-463), announcement is made of the following Committee Meeting:

Name of Committee: Army Science Board (ASB) Analysis Panel.

Date of Meeting: May 1-2, 2001.

Time of Meeting: 0800-1700.

Places: May 1—IDA; May 2—Ft. Belvoir.

Agenda: The Analysis Panel of the Army Science Board's (ASB) Summer Study, “Objective Force Soldier/Soldier Teams” will visit IDA and Ft. Belvoir. These meetings will be open to the public. Any interested person may attend, appear before, or file statements with the committee at the time and in the manner permitted by the committee.

For further information: Please contact Karen Williams at (407) 384-3937.

Wayne Joyner,
Executive Assistant, Army Science Board.

[FR Doc. 01-10185 Filed 4-24-01; 8:45 am]

BILLING CODE 3710-08-M